DEPARTMENT OF COMMERCE

National Oceanic and Atmospheric Administration

[Docket No. 020213030-3031-02; I.D. No. 010903C]

Announcement of Funding Opportunity to Submit Proposals for the Monitoring and Event Response for Harmful Algal Blooms (MERHAB) Program FY2004

AGENCY: National Centers for Coastal Ocean Sciences/Center for Sponsored Coastal Ocean Research, Coastal Ocean Program (NCCOS/CSCOR/COP), National Ocean Service (NOS), National Oceanic and Atmospheric Administration (NOAA), Department of Commerce (DOC).

ACTION: Notice of funding availability for financial assistance for project grants and cooperative agreements.

SUMMARY: The purpose of this document is to advise the public that NCCOS/CSCOR/COP is soliciting proposals for two types of projects: targeted research and regional intensive monitoring. It is anticipated that projects funded under this announcement will have a February 1, 2004, start date.

NCCOS/CSCOR/COP is soliciting targeted research proposals for 1 to 3 years of research and development of tools, approaches and technologies that could be included as routine components of existing Harmful Algal Bloom (HAB) monitoring programs. NCCOS/CSCOR/COP is also soliciting proposals from regional multi-investigator partnerships of 1 to 5 years for intensive monitoring of HABs that build the capacity of existing local, state, tribal, or regional coastal monitoring programs to provide early warning of HAB events to coastal communities and increase regional ability to rapidly respond to HAB events. Funding is contingent upon the availability of Fiscal Year 2004 Federal appropriations. It is anticipated that final recommendations for funding under this announcement will be made in early Fiscal Year 2004.

DATES: The deadline for receipt of proposals at the NCCOS/CSCOR/COP office is 3 p.m.,local time, June 3, 2003. (Note that late-arriving applications provided to a delivery service on or before June 3, 2003, with delivery guaranteed before 3 p.m.,local time, on June 3, 2003, will be accepted for review if the applicant can document that the application was provided to the delivery service with delivery to the address listed below guaranteed by the specified closing date and time and, in any event, the proposals are received in the NCCOS/CSCOR/COP office by 3 p.m. local time, no later than 2 business days following the closing date.)

ADDRESSES: Submit the original and 15 copies of your proposal to (MERHAB03) Center for Sponsored Coastal Ocean Research/Coastal Ocean Program (N/SCI2), National Oceanic and Atmospheric Administration, 1305 East-West Highway, SSMC4, 8th Floor Station 8243, Silver Spring, MD 20910, attn. MERHAB 2004.

NOAA and Standard Form Applications with instructions are accessible on the following CSCOR/COP Internet site: http://www.cop.noaa.gov under the COP Grants Information Section, Part D, Application Forms for Initial Proposal Submission.

Forms may be viewed and, in most cases, filled in by computer. All forms must be printed, completed, and mailed to NCCOS/CSCOR/COP with original signatures. If you are unable to access this information, you may call COP at 301-713-3338 to leave a mailing request.

FOR FURTHER INFORMATION CONTACT: Technical Information. Marc Suddleson, MERHAB 2004 Program Manager, NCCOS/CSCOR/COP, 301-713-3338/ext 162, Internet: marc.suddleson@noaa.gov

Business Management Information. Leslie McDonald, NCCOS/CSCOR/COP Grants Administrator, 301-713-3338/ext 155, Internet: Leslie.McDonald@noaa.gov

SUPPLEMENTARY INFORMATION:

Electronic Access

The following web sites furnish supplementary information from reports dealing with harmful algal blooms: Boesch et.al, Feb 1997, Harmful Algal Blooms in Coastal Waters: Options for Prevention, Control and Mitigation, Silver Spring, MD at http://www.cop.noaa.gov/pubs/das/das10.html; and Anderson et.al., Sept 2000, Estimated Annual Economic Impact from Harmful Algal Blooms (HABs) in the U.S. WHOI at http://www.redtide.whoi.edu/hab/pertinentinfo/Economics_Report.pdf.

Information on the Harmful Algal Bloom and Hypoxia Research and Control Act and the 2000 National Assessment of HABs in U.S. Waters, National Science and Technology Council Committee on Environment and Natural Resources (CENR), Washington, DC, can be located at http://www.habhrca.noaa.gov.

Details about ongoing MERHAB projects currently funded by the NCCOS/CSCOR/COP MERHAB Program are found at http://www.cop.noaa.gov/Fact_Sheets/MERHAB.htm. Hard copies of these resources can be obtained from the CSCOR/COP office.

Background

Program Description

For complete program description and other requirements for NCCOS/CSCOR/COP, see the General Grant Administration Terms and Conditions for the Coastal Ocean Program annual notification in the Federal Register November 8, 2002 (67 FR 68103), and at the CSCOR/COP home page.

In spite of a growing list of affected resources and coastal communities, our ability to prevent, control, and mitigate the impacts of HABs remains limited. Acting on the findings of a 1996 NOAA and DOI Report, Harmful Algal Blooms in Coastal Waters: Options for Prevention, Control and Mitigation, the research agenda of the Ecology and Oceanography of Harmful Algal Bloom (ECOHAB) program for the past five years has focused on building a scientific understanding about the cause and behavior of HABs. ECOHAB continues to support research that develops understandings of the linkages between the biology, ecology, physiology, and behavior of harmful species and the physics, chemistry, bathymetry, and meteorology of the surrounding environment. ECOHAB research is developing the capabilities to forecast bloom landfall, evaluate toxicity, and provide mitigation strategies that might ameliorate the impact of blooms along U.S. coasts. ECOHAB is also producing new state-of-the art HAB technologies, such as detection assays and molecular probes.

With the maturation of ECOHAB and other HAB research programs, more effort is needed to adapt their research products into regionally and locally tested tools that can be used to prevent, control, or mitigate the impact of HABs. The 1996 NOAA and Department of Interior (DOI) Report noted that knowledge about the basic information on the causes and behavior of HABs would ultimately lead to the development of prevention, control, and mitigation (PCM) strategies. The plan called for Federal and state agencies with responsibilities for resource management, environmental protection, and public health to support PCM research.

While prevention of HABs is the preferred management option, effort to enhance the current abilities to reduce the incidence and extent of harmful algal blooms (before they begin) requires additional research and face legislative hurdles. For example, more research is needed to determine whether a cause-and-effect relationship exists between increased pollution and nutrient loading and an incidence of some HAB species (e.g., Pfiesteria, Pseudo-nitzchia, cyanobacteria). Further, a national regulatory strategy to effectively control polluted run off and nutrient loading is under development; but more research is required to educate decision makers.

Efforts to control HABs are also being explored, but these, too, face serious scientific and policy hurdles. Attempts to use chemicals to directly control HAB cells encounter many logistical problems and environmental objections. Chemicals are likely to be nonspecific, indiscriminately targeting all co-occurring algae and other organisms along with the target algal species. Chemical application and other options, such as flocculants or biological controls need additional research to determine their wider impacts to the coastal ecosystem.

Strategies to mitigate or minimize human health risks, ecosystem damage, fisheries losses, and declines in tourism due to algal blooms are currently the best option for coastal management of the HAB problem. Many different types of actions can be taken to mitigate the impact of HABs, including forecasting bloom development and movement, monitoring HAB cells and toxins, and responding rapidly to HAB events.

Monitoring combined with rapid response to HAB events has been identified as the most effective way to mitigate the impact of HABs (CENR 2000). A number of coastal states have existing monitoring programs designed to prevent human illness from shellfish poisoning syndromes. State shellfish monitoring programs detect toxins in different fisheries species either to provide advance warning of outbreaks or to delineate areas that require harvest restrictions. Fewer coastal states monitor the environment for HAB blooms and forecast their development and movement. However, states with environmental monitoring programs for plankton and fish in coastal estuaries and bays are often able to provide early warning of blooms and help focus shellfish toxicity testing efforts.

Some states supplement their HAB monitoring activities with rapid response teams that are deployed to assess suspected HAB events. HABs have the potential to develop rapidly, and often the observable event may be short-lived. Rapid response is essential to ensure that the appropriate sampling is done to determine whether a HAB event is in progress. A few regions have also have established communication networks to distribute information about outbreaks to researchers, managers, and the public. Providing rapid and accurate information is critical to assess the risks to resources and human health and to avoid public misconceptions about the safety of coastal resources. Such misconceptions have caused severe economic impacts to regions not directly affected by HAB events. A study completed by Woods Hole Oceanographic Institute in September 2000 calculated the total estimated annual cost from HABs on public health, commercial fisheries, recreation and tourism, and monitoring and management in the United States to be $49 million. This estimate was noted by the authors to be highly conservative and sensitive to single events that equal or exceed the total estimated economic impact.

Most coastal communities experiencing HABs are not covered by regular public or private monitoring programs for HABs, and many do not receive adequate information about outbreaks. State monitoring programs have not kept pace with the expansion of the HABs problem. Tight state budgets and the need to monitor for more toxins in more organisms over larger areas have left many monitoring programs underfunded. Further, support of state monitoring efforts through the Federal Clean Water Program has not specifically addressed the need for increased HAB monitoring. The problem is exacerbated by managers' inability to quantify the benefits to human health, commercial fisheries, recreation and tourism of controlling HABs and to compare these to the costs of mitigation strategies.

NCCOS/CSCOR/COP Program Interest

Through the MERHAB program, NCCOS/CSCOR/COP intends to build capabilities of local, state, tribal, and private sector for regular and intensive measurement of HAB parameters. This will make existing monitoring programs more efficient while providing better coverage in time and space. MERHAB will enable rigorous field testing of state-of-the-art technology through targeted projects and will incorporate the new methods of detecting and tracking HABs into existing monitoring programs through regional, intensive monitoring projects. MERHAB will also develop event-response capabilities within affected regions to ensure trained and equipped personnel are able to mobilize quickly, conduct appropriate sampling and testing, and communicate effectively during HAB events.

With faster, less expensive, and more reliable detection methods for HAB cells and toxins, and stronger mechanisms in place to respond to outbreaks, programs will be better able to mitigate the impact of HABs on vital resources and will protect public health. As a result, managers will be able to better address the expanding HAB problems facing their coastal regions and, therefore, they will be better positioned to request long-term support from Federal and state agencies or from other funding entities.

MERHAB Goal

The primary goal of the MERHAB program is to incorporate products generated from past or ongoing HAB research programs into operational components of existing monitoring programs in HAB-impacted coastal regions. MERHAB is not intended to provide long-term support for routine monitoring efforts.

A. MERHAB-Targeted Research Project

(1) Objectives:

(a) Develop a technology that will enhance HAB monitoring activities in U.S. coastal waters; and (b) incorporate that technology into existing HAB monitoring programs.

(2) Characteristics:

(a) Should rigorously field-test new technologies to detect algal species, toxin, or toxicity and/or monitor the environmental conditions that support HABs. New technologies may include, but are not limited to, rapid field assays for shellfish, improved diagnostic techniques for in situ detection of HAB cells, and remote sensing technology to help target sampling efforts; (b) may be led either by an individual or by small investigative team; and (c) must address specified research needs of the HAB community.

Investigators should include in their work plans efforts to build support for the incorporation of technology into one or more existing state or regional HAB monitoring programs. (See Part II: Further Supplementary Information Section (11) “Project Funding Priorities.”)

B. MERHAB-regional, Intensive Monitoring Projects

(1) Objectives:

(a) Develop new or increase existing regional capabilities for HAB monitoring; (b) incorporate new tools for HAB measurement into existing monitoring efforts;(c) include local, state, regional, Federal, or non-governmental entities as active partners in identifying environmental measurements and their importance to managing coastal resources and protecting human health (i.e. generating public advisories) in the area; (d) determine and work to secure long-term local, state, regional, or other funding that will support enhancements in HAB monitoring that result from MERHAB project funding; and (e) develop local and/or regional capabilities to respond to HAB events.

(2) Characteristics:

(a) Include a suite of annual studies and involve a multi-disciplinary, collaborative team of investigators. The team should represent groups with strong interests in improved HAB monitoring, including, but not limited to, the natural and social science research community, existing monitoring programs, communities dependent upon affected resources, business and industry associations, and non-profit organizations; (b) provide evidence that local, state, tribal, regional, and Federal representatives were consulted in the development of the proposal to ensure appropriate economic, regulatory, and management issues are addressed; (c) include a plan for continued consultation with these representatives to facilitate the incorporation of research results into existing monitoring programs and to identify means to continue HAB monitoring efforts after MERHAB project funding has ended; and (d) form a management team with a designated chairperson serving as the main point of contact with the MERHAB Program Manager.

In similar NCCOS/CSCOR/COP research programs i.e. ECOHAB, management teams provide strong leadership and solid partnerships among principal investigators and collaborators. Teams serve to interpret results collected from the expanded suite of pilot studies, permitting acceptance or rejection of the approaches, techniques, or tools explored during each annual budget period. MERHAB management teams will also analyze results for application under local conditions and assess effectiveness under specific constraints so that application to other coastal systems or species may be determined.

Shared Research Project Characteristics

The following characteristics are shared by both MERHAB-targeted projects and MERHAB-regional, intensive monitoring projects.

(1) Project results will be distributed to stakeholders via scientific, peer-reviewed articles, synthesis documents, briefings, electronic web sites, and any other means defined by the proposers.

(2) Project proposals should clearly identify a timetable of accomplishments and major program elements that will lead to specific interim and final assessments of applicability and effectiveness of a number of monitoring approaches.

Continuation of funding will be contingent upon the availability of funds from Congress, satisfactory performance, and is at the sole discretion of the agency; and determination by the awarding agency that the selected project is on course to provide both interim and final products that will improve HAB monitoring capabilities in the local or national coastal environment impacted by HABs.

Expected Products and Outcomes

A. MERHAB-Targeted Projects

(1) Development and testing of new HAB monitoring tools;

(2) Demonstration of effective application of technology in an existing monitoring program; and

(3) Comprehensive data analysis and integration that advances the state of science and management (i.e. technical reports, peer-reviewed publications, databases, numerical and conceptual models, etc.).

B. MERHAB-regional, Intensive Monitoring Projects

(1) Include regional stakeholder input and participation through means that may include, but are not limited to, annual workshops, management and technical advisory committees that involve a broad spectrum of regional interests and training in use of new technology;

(2) Provide recommendations to management of the parameters to be measured in a region and the types of instruments that should be developed or adapted into existing monitoring programs;

(3) Deploy new HAB monitoring tools in existing monitoring programs;

(4) Conduct comprehensive data analysis and integration that advances the state of science and management. (i.e. technical reports, peer-reviewed publications, data bases, numerical and conceptual models; regional case studies with explicit applications to important management issues; risk analysis of management scenarios; regional economic valuation of direct and indirect costs associated with HAB events; and region-specific management recommendations based on study results);

(5) Accept commitments from one or more local, state, tribal, regional, or Federal organizations for continued, long-term support of expanding HAB monitoring capabilities;

(6) Develop real-time, scientific response capability during HAB outbreaks for the region that includes, but is not limited to, the use of local experts, establishing local academic-government- NGO-private partnerships for providing immediate analytical and sampling capacities, and expanding local abilities for transferring samples to analytical services outside the region; and

(7) Conduct outreach to improve awareness of HAB outbreaks and their environmental and societal costs, and to mitigate their impact on vital natural resources, public health and local/regional economies.

Part I: Schedule and Proposal Submission

This document requests full proposals only. The provisions for proposal preparation provided here are mandatory. Proposals received after the published deadline (refer to DATES) or proposals that deviate from the prescribed format will be returned to the sender without further consideration. Information regarding this announcement, additional background information, and required Federal forms are available on the CSCOR/COP home page.

Full Proposals

Applications submitted in response to this announcement require an original proposal and 15 proposal copies at time of submission. This includes color or high-resolution graphics, unusually sized materials, or otherwise unusual materials submitted as part of the proposal. For color graphics, submit either color originals or color copies. The stated requirements for the number of proposal copies provide for a timely review process. Facsimile transmissions and electronic mail submission of full proposals will not be accepted.

Required Elements

All recipients must follow the instructions in the preparation of the NCCOS/CSCOR/COP application forms included in Part II: Further Supplementary Information, (10) Application forms and kit.

For clarity in the submission of proposals, the following definitions are provided for recipient use: (1) Funding and/or Budget Period—The period of time when Federal funding is available for obligation by the recipient. The funding period must always be specified in multi-year awards, using fixed year funds. This term may also be used to mean “budget period” A budget period is typically 12 months. (2) Award and/or Project Period—The period established in the award document during which Federal sponsorship begins and ends. The term “award period” is also referred to as project period in 15 CFR 14.2(cc) Each proposal must also include the following nine elements or it will be returned to sender without further consideration:

(1) Standard Form 424. At time of proposal submission, all applicants anticipating direct funding shall submit the Standard Form, SF-424, “Application for Federal Assistance,” to indicate the total amount of funding proposed for the whole project period. This form is to be the cover page for the original proposal and all requested copies. Multi-institutional proposals must include signed SF-424 forms from all institutions requesting funding.

(2) Signed Summary title page. The title page should be signed by the Principal Investigator (PI). The Summary title page identifies the project's title, starting with the acronym: MERHAB 2004, a short title (less than 50 characters), and the PI's name and affiliation, complete address, phone, FAX and E-mail information. The requested budget for each fiscal year should be included on the Summary title page. Multi-institution proposals must also identify the lead investigator from each fiscal year for each institution and the requested funding for each fiscal year for each institution on the title page, but no signatures are required on the title page from the additional institutions. Lead investigator and separate budget information is not requested on the title page for institutions that are proposed to receive funds through a subcontract to the lead institution; however, the COP Summary Proposal Budget Form and accompanying budget justification must be submitted for each subcontractor. For further details on budget information, please see Section (7) Budget of this Part.

(3) One-page abstract/project summary. The Project Summary (Abstract) Form, which is to be submitted at time of application, shall include an introduction of the problem, rationale, scientific objectives and/or hypotheses to be tested, and a brief summary of work to be completed. The prescribed NCCOS/CSCOR/COP format for the Project Summary Form can be found on the CSCOR/COP Internet site under the Grants Information section, Part D.

The summary should appear on a separate page, headed with the proposal title, institution(s), investigator(s), total proposed cost, and budget period. It should be written in the third person. The summary is used to help compare proposals quickly and allows the respondents to summarize these key points in their own words.

(4) Project description. The description of the proposed project must be complete and divided into annual increments of work that include: identification of the problem, scientific objectives, proposed methodology, relevance to the MERHAB 2004 program goals, and its scientific priorities. For MERHAB-Targeted project proposals, the project description (including relevant results from prior support) should not exceed 15 pages. For MERHAB-regional, intensive monitoring project proposals, the project description (including relevant results from prior support) should not exceed 20 pages. Both page limits are inclusive of figures, other visual materials, and letters of endorsement, but are exclusive of references, a milestone chart, and letters of collaboration from unfunded collaborators.

This section should clearly identify project management with a description of the functions of each PI within a team. It should provide a full scientific justification for the research, rather than simply reiterating justifications presented in this document. It should also include:

(a) The objective for the period of proposed work and its expected significance;

(b) The relation to the present state of knowledge in the field and relation to previous work and work in progress by the proposing principal investigator(s);

(c) A discussion of how the proposed project lends value to the program goals;

(d) Potential coordination with other investigators.

(5) References cited. Reference information is required. Each reference must include the names of all authors in the same sequence they appear in the publications, the article title, volume number, page numbers, and year of publications. While there is no established page limitation, this section should include bibliographic citations only and should not be used to provide parenthetical information outside the 15-page MERHAB-targeted project or the 20-page MERHAB-regional project descriptions.

(6) Milestone chart. Provide time lines of major tasks covering the duration of the proposed project.

(7) Budget. At time of proposal submission, all applicants are required to submit a COP Summary Proposal Budget Form for each fiscal year increment. Multi-institution proposals must include a COP Summary Proposal Budget Form for each institution, and multi-investigator proposals using a lead investigator with a subcontract's approach must submit a COP Summary Proposal Budget Form for each subcontractor.

Each subcontract or subgrant should be listed as a separate item. Describe products/services to be obtained and indicate the applicability or necessity of each to the project. Provide separate budgets for each subgrant or contract regardless of the dollar value and indicate the basis for the cost estimates. List all subgrant or contract costs under line item number 5—Subcontracts on the COP Summary Proposal Budget Form.

The use of this budget form will provide for a detailed annual budget and for the level of detail required by the NCCOS/CSCOR/COP program staff to evaluate the effort to be invested by investigators and staff on a specific project. The COP budget form is compatible with forms in use by other agencies that participate in joint projects with NCCOS/CSCOR/COP and can be found on the CSCOR/COP home page under Grants Information section, Part D.

All applications must include a budget narrative and a justification to support all proposed budget categories. The SF-424A, Budget Information (Non-Construction) Form, will be requested only from those applicants subsequently recommended for award. See references to single year or multi year awards under Part II: Further Supplementary Information, (10) Application Forms and Kits regarding submission of the SF-424A.

Ship time needs should be clearly identified in the proposed budget. The investigator is responsible for requesting ship time and for meeting all requirements to ensure the availability of requested ship time. Copies of relevant ship time request forms should be included with the proposal.

(8) Biographical sketch. All principal and co-investigators must provide summaries of up to 2 pages that include the following:

(a) A listing of professional and academic essentials and mailing address;

(b) A list of up to five publications most closely related to the proposed project and five other significant publications. Additional lists of publications, lectures, and the rest should not be included;

(c) A list of all persons (including their organizational affiliation) in alphabetical order, with whom the investigator has collaborated on a project or publication within the last 48 months, including collaborators on the proposal and persons listed in the publications. If no collaborators exist, this should be so indicated;

(d) A list of persons (including their organizational affiliation) with whom the individual has had an association like thesis advisor or postdoctoral scholar sponsor;

(e) A list of the names and institutions of the individual's own graduate and postgraduate advisors.

The material presented in (c, d, and e) is used to assist in identifying potential conflicts or bias in the selection of reviewers.

(9) Current and pending support. Describe all current and pending financial/funding support for all principal and co-investigators, including subsequent funding in the case of continuing grants. All current support from all sources (e.g., Federal, state or local government agencies, private foundations, industrial or other commercial organizations) must be listed. The proposed project and all other projects or activities requiring a portion of time of the principal investigator or co-investigators should be included, even if they receive no salary support from the projects. The total award amount for the entire award period covered (including indirect costs) should be shown as well as the number of person-months per year to be devoted to the project, regardless of source of support.

(10) Proposal format and assembly. The original proposal should be clamped in the upper left-hand corner, but left unbound. The 15 additional copies can be stapled in the upper left-hand corner or bound on the left edge. The page margin must be one inch (2.5 cm) at the top, bottom, left, and right, and the typeface standard 12-point size must be clear and easily legible. Proposals should be single spaced.

Part II: Further Supplementary Information

(1) Program authorities. For a list of all program authorities for the NCCOS/CSCOR/COP, see General Grant Administration Terms and Conditions of the Coastal Ocean Program published in the Federal Register November 8, 2002 (67 FR 68103) and at the CSCOR/COP home page. Specific authority cited for this announcement is 33 U.S.C. 1442 and Public Law 105-383, title VI, Nov. 13, 1998.

(2) Catalog of Federal Domestic Assistance (CFDA) number. The CFDA number for the Coastal Ocean Program is 11.478.

(3) Program description. For complete NCCOS/CSCOR/COP program descriptions, see General Grant Administration Terms and Conditions of the Coastal Ocean Program published in the Federal Register November 8, 2002 (67 FR 68103).

(4) Funding availability. Funding is contingent upon availability of Federal appropriations. It is anticipated that three to five MERHAB-Targeted research projects will be funded at approximately $100,000 per year for up to 3 years and that two to three MERHAB-regional, intensive monitoring proposals will be funded at approximately $600,000 per year for up to 5 years. Support in out years after FY 2004 is contingent upon the availability of funds.

If an application is selected for funding, NOAA has no obligation to provide any additional prospective funding in connection with that award in subsequent years. Continuation of an award to increase funding or extend the period of performance is based on satisfactory performance and is at the total discretion of the funding agency. Priority for these funds will be given to proposals that promote balanced coverage of the science objectives stated under this announcement.

Publication of this document does not obligate the CSCOR/COP to any specific award or to obligate any part of the entire amount of funds available. Recipients and subrecipients are subject to all Federal laws and agency policies, regulations, and procedures applicable to Federal financial assistance awards.

(5) Matching requirements. None.

(6) Type of funding instrument. They are project grants and cooperative agreements.

(a) Research Project Grants: A research project grant is one in which substantial programmatic involvement by NOAA is not anticipated by the recipient during the project period. Applicants for grants must demonstrate an ability to conduct the proposed research with minimal assistance, other than financial support, from NOAA.

(b) Cooperative Agreements: A cooperative agreement implies that NOAA will assist recipients in conducting the proposed research. The application should be presented in a manner that demonstrates the applicant's ability to address the research problem in a collaborative manner with NOAA. A cooperative agreement is appropriate when substantial NOAA involvement is anticipated. This means that the recipient can expect substantial agency collaboration, participation, or intervention in project performance. Substantial involvement exists when: responsibility for the management, control, direction, or performance of the project is shared by the assisting agency and the recipient; or the assisting agency has the right to intervene (including interruption or modification) in the conduct or performance of project activities.

(c) Determination of which instrument to use: Applicants must specify the type of award for which they are applying, either a grant or a cooperative agreement. The funding agency will review the applications in accordance with the evaluation criteria. Before issuing awards, NOAA will determine whether a grant or cooperative agreement is the appropriate instrument based upon the need for substantial NOAA involvement in the project.

(d) In an effort to maximize the use of limited resources, applications from non-Federal, non-NOAA Federal and NOAA Federal applicants will be competed against each other. Research proposals selected for funding from non-Federal researchers will be funded through a project grant or cooperative agreement.

Research proposals selected for funding from non-NOAA Federal applicants will be funded through an interagency transfer, provided legal authority exists for the Federal applicant to receive funds from another agency. PLEASE NOTE: Before non-NOAA Federal applicants may be funded, they must demonstrate that they have legal authority to receive funds from another Federal agency in excess of their appropriation. Because this announcement is not proposing to procure goods or services from the applicants, the Economy Act (31 U.S.C. section 1535) is not an appropriate basis. Support may be solely through COP or partnered with other Federal offices and agencies.

Proposals deemed acceptable from NOAA Federal researchers will be funded through an intraagency transfer.

(7) Eligibility criteria. For complete eligibility criteria for the NCCOS/CSCOR/COP, see the General Grant Administration Terms and Conditions for the Coastal Ocean Program annual document in the Federal Register November 8, 2002 (67 FR 68103), and the CSCOR/COP home page. Eligible applicants are institutions of higher education, other non-profits, state, local, Indian Tribal Governments, and Federal agencies that possess the statutory authority to receive financial assistance.

(i) Researchers must be employees of an eligible institution listed above; and proposals must be submitted through that institution. Non-federal researchers should comply with their institutional requirements for proposal submission.

(ii) Non-NOAA Federal applicants will be required to submit certifications or documentation showing that they have specific legal authority to receive funds from the Department of Commerce (DOC) for this research.

(iii) NCCOS/CSCOR/COP will accept proposals that include foreign researchers as collaborators with a researcher, who has met the above stated eligibility requirements; and who also is an employee of an eligible institution listed above. (iv) Non-federal researchers affiliated with NOAA-University Joint Institutes should comply with joint institutional requirements; they will be funded through grants either to their institutions or to joint institutes.

(8) Project/Award period. Full proposals for targeted projects can cover a project/award period of up to 3 years, and full proposals for regional, intensive monitoring projects can cover a project/award period of up to 5 years. Multi-year awards may be funded incrementally on an annual basis, but, once awarded, those awards will not compete for funding in subsequent years. (See section (10) Application Forms and Kit for directions on submission of Federal forms for multi year award funding for those applicants subsequently recommended for award.) Each annual award shall require an Implementation Plan and project description that can be easily divided into annual increments of meaningful work representing solid accomplishments (if prospective funding is not made available, or is discontinued).

(9) Indirect costs. Regardless of any approved indirect cost rate applicable to the award, the maximum dollar amount of allocable indirect costs for which DOC will reimburse the recipient shall be the lesser of: (a) the line item amount for the Federal share of indirect costs contained in the approved budget of the award; or (b) the Federal share of the total allocable indirect costs of the award based on the indirect cost rate approved by a cognizant or oversight Federal agency and current at the time the cost was incurred, provided the rate is approved on or before the award end date.

(l0) Application forms and kit. For complete information on application forms for the NCCOS/CSCOR/COP, see General Grant Administration Terms and Conditions for the Coastal Ocean Program document in the Federal Register November 8, 2002 (67 FR 68103), at the CSCOR/COP home page and the information given under Required Elements, paragraph (7) Budget. The following is a description of Multi-Year Awards for those applicants subsequently recommended for award. This information can also be found on the COP web site under Grants Information. Multi-Year Awards: Multi Year Awards are awards which have an award/project period of more than 12 months of activity. Multi Year Awards are partially funded when the awards are approved, and are subsequently funded in increments. One of the purposes of Multi Year Awards is to reduce the administrative burden on both the applicant and the operating unit. For example, with proper planning, one application can suffice for the entire multi year award period. Funding for each year's activity is contingent upon the availability of funds from Congress, satisfactory performance, and is at the sole discretion of the agency. Multi-year funding is appropriate for projects to be funded for 2 to 5 years. Once approved, full applications are not required for the continuations into the out years.

(11) Project funding priorities. For description of project funding priorities, see the annual General Grant Administration Terms and Conditions for the Coastal Ocean Program document in the Federal Register November 8, 2002 (67 FR 68103), and the CSCOR/COP home page.

(12) Evaluation criteria. For complete information on evaluation criteria, see the annual General Grant Administration Terms and Condition for the Coastal Ocean Program document in the Federal Register November 8, 2002 (67 FR 68103), and the CSCOR/COP home page.

(13) Selection procedures. For complete information on selection procedures, see the annual General Grant Administration Terms and Conditions for the Coastal Ocean Program document in the Federal Register November 8, 2002 (67 FR 68103), and the CSCOR/COP home page. All proposals received under this specific document will be evaluated and ranked individually in accordance with the assigned weights of the above evaluation criteria by independent peer mail review and/or panel review. No consensus advice will be given by the independent peer mail review or the review panel.

(14) Other requirements.

(a) For a complete description of other requirements, see the annual General Grant Administration Terms and Conditions for the Coastal Ocean Program document in the Federal Register November 8, 2002 (67 FR 68103) and the CSCOR/COP home page. NOAA has specific requirements that environmental data be submitted to the National Oceanographic Data Center (see section 16, Data Archiving).

(b) The Department of Commerce Pre-Award Notification Requirements for Grants and Cooperative Agreements contained in the Federal Register October 1, 2001 (66 FR 49917), as amended by the Federal Register notice published on October 30, 2002 (67 FR 66109), are applicable to this solicitation.

(c) Please note that NOAA is developing a policy on internal overhead charges; NOAA scientists considering submission of proposals should contact the appropriate CSCOR/COP Program Manager for the latest information.

(15) Intergovernmental review. Applications under this program are not subject to Executive Order 12372, “Intergovernmental Review of Federal Programs.” It has been determined that this notice is not significant for purposes of Executive Order 12866. Pursuant to 5 U.S.C. 553(a) (2), an opportunity for public notice and comment is not required for this notice relating to grants, benefits and contracts. Because this notice is exempt from the notice and comment provisions of the Administrative Procedure Act, a Regulatory Flexibility Analysis is not required, and none has been prepared. It has been determined that this notice does not contain policies with Federalism implications as that term is defined in Executive Order 13132.

(16) Data archiving. Any data collected in projects supported by NCCOS/CSCOR/COP must be delivered to a National Data Center (NDC), such as the National Oceanographic Data Center (NODC), in a format to be determined by the institution, the NODC, and Program Officer. It is the responsibility of the funded institution for the delivery of these data; the DOC will not provide additional support for delivery beyond the award. Additionally, all biological cultures established, molecular probes developed, genetic sequences identified, mathematical models constructed, or other resulting information products established through support provided by NCCOS/CSCOR/COP are encouraged to be made available to the general research community at no or a modest handling charge (to be determined by the institution, Program Officer, and DOC). For more details, refer to NCCOS/CSCOR/COP data policy posted at the CSCOR/COP home page.

(17) Collection of information requirements. This notification involves collection-of-information requirements subject to the Paperwork Reduction Act. The use of Standard Forms 424, 424A, 424B, and SF-LLL has been approved by the Office of Management and Budget (OMB) under control numbers 0348-0043, 0348-0044, 0348-0040 and 0348-0046.

The following requirements have been approved by OMB under control number 0648-0384; a Summary Proposal Budget Form (30 minutes per response), a Project Summary Form (30 minutes per response), a standardized format for the annual Performance Report (5 hours per response), a standardized format for the Final Report (10 hours per response), and the submission of up to 20 copies of proposals (10 minutes per response). The response estimates include the time for reviewing instructions, searching existing data sources, gathering and maintaining the data needed, and completing and reviewing the collection of information. Send comments regarding these requirements and the burden estimate, or any other aspect of this collection of information, including suggestions for reducing this burden, to leslie.mcdonald@noaa.gov. Copies of these forms and formats can be found on the CSCOR/COP home page under Grants Information sections, Parts D and F.

Notwithstanding any other provision of law, no person is required to respond to, nor shall any person be subject to a penalty for failure to comply with a collection of information subject to the requirements of the Paperwork Reduction Act, unless that collection displays a currently valid OMB control number.

Dated: February 24, 2003.
Ted I. Lillestolen,
Associate Deputy Assistant Administrator, National Oceanic and Atmospheric Administration, National Ocean Service.

[FR Doc. 03-4895 Filed 2-28-03; 8:45 am]

BILLING CODE 3510-JS-S